ENVIRONMENTAL PROTECTION AGENCY

[FRL-6536-9]

Notice of Open Meeting of The Environmental Financial Advisory Board on March 7-8, 2000

The Environmental Protection Agency's (EPA) Environmental Financial Advisory Board (EFAB) will hold an open meeting of the full Board in Washington, DC on March 7-8, 2000. The meeting will be held at the National Press Club, 13th Floor in the Holeman Lounge, 14th and F Streets, NW, Washington, DC. The Tuesday, March 7 session will run from 8:30 a.m. to 5:00 p.m. and the Wednesday, March 8 session will begin at 8:15 a.m. and end at approximately 11:30 a.m.

EFAB is chartered with providing analysis and advice to the EPA Administrator on environmental finance. The purpose of this meeting is to hear presentations on key issues, discuss work products under EFAB's current strategic action agenda and to make changes to the agenda as necessary. Environmental financing topics expected to be discussed include: the Office of Water's Gap Analysis, cost effective environemtnal management, community-based environmental protection, international environmental finance, smart growth, and brownfields redevelopment.

The meeting will be open to the public, but seating is limited. For more information, please contact Alecia Crichlow, U.S. EPA on 202-564-5188.

Dated: February 7, 2000.
Joseph L. Dillion,
Acting Comptroller.

[FR Doc. 00-3484 Filed 2-14-00; 8:45 am]

BILLING CODE 6560-50-M